DEPARTMENT OF COMMERCE

Foreign-Trade Zones Board

[Docket 4-2006]

Foreign-Trade Zone 22—Chicago, Illinois, Request for Manufacturing Authority, Michelin North America Proposed Subzone, (Wheel Assembly), Monee, Illinois

An application has been submitted to the Foreign-Trade Zones Board (the Board) by the Illinois International Port District, grantee of FTZ 22, requesting authority on behalf of Michelin North America (MNA) to assemble wheels under FTZ procedures at the MNA distribution facility located in Monee, Illinois. The application was formally filed on February 2, 2006.

The applicant is requesting to perform wheel assembly using domestic and foreign components on behalf of auto manufacturer clients at the proposed MNA subzone in Monee, Illinois (FTZ Doc. 15-2005, 70 FR 14443, 3/22/05). Foreign-sourced components include tires (HTSUS 4011.10, 4011.20, 4011.61, 4011.62, 4011.63, 4011.92, 4011.93, 4011.94, 4011.99, duty-free to 4.0%), wheel rims (HTSUS 8708.70, duty-free to 2.5%), flaps (HTSUS 4012.90, duty-free to 4.2%), valves (HTSUS 8481.80, duty-free to 5%), tubes (HTSUS 4013.10, duty-free to 3.7%), gaskets (HTSUS 4016.93, duty-free to 2.5%), sensors (HTSUS 8525.10, duty-free), and nuts (HTSUS 7318.16, duty-free).

FTZ procedures would exempt MNA from Customs duty payments on the foreign components used in production for export to non-NAFTA countries. On shipments for U.S. consumption and to NAFTA markets, MNA could elect the wheel assembly duty rate (generally dutiable as an auto part −2.5%) for the foreign components (mostly tires dutiable at 4%) listed above. The auto part duty rate (2.5%) would apply if the wheel assemblies are shipped via zone-to-zone transfer to U.S. motor vehicle assembly plants with subzone status. The application indicates that the savings from FTZ procedures would help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, DC 20005; or

2. Submissions Via the U.S. Postal Service: Foreign-Trade-Zones Board, U.S. Department of Commerce, FCB - Suite 4100W, 1401 Constitution Ave. NW, Washington, DC 20230.

The closing period for their receipt is April 11, 2006. Rebuttal comments in response to material submitted during the foregoing period may be submitted during the subsequent 15-day period (to April 26, 2006).

Copies of the request will be available for public inspection at the Office of the Foreign-Trade Zones Board's Executive Secretary at address Number 1 listed above.

Dated: February 3, 2006.
Dennis Puccinelli,
Executive Secretary.

[FR Doc. E6-1885 Filed 2-9-06; 8:45 am]

Billing Code: 3510-DS-S